FEDERAL MARITIME COMMISSION

[Docket No. 22-12]

Notice of Filing of Complaint and Assignment; International Longshoremen's Association, Complainant v. Gateway Terminals, LLC; Charleston Stevedoring Company, LLC; Ports America Florida, Inc.; Ceres Marine Terminals, Inc.; and SSA Atlantic, LLC, Respondents

Notice is given that a complaint has been filed with the Federal Maritime Commission (Commission) by International Longshoremen's Association, hereinafter “Complainant”, against Gateway Terminals, LLC (Gateway), Charleston Stevedoring Company, LLC (CSC), Ports America Florida, Inc. (Ports America), Ceres Marine Terminals, Inc. (Ceres), and SSA Atlantic, LLC (SSA), hereinafter “Respondents.” Complainant alleges that Gateway is a marine terminal operator in the Port of Savannah, Georgia, and is a Georgia limited liability company, and is a joint venture composed of Ports America, SSA, and Ceres; CSC is a marine terminal operator in the Port of Charleston, South Carolina, and is a Delaware limited liability company, and is a joint venture of Ports America, SSA, and Ceres; Ports America is a Florida corporation; Ceres is a Maryland corporation; and SSA is a Delaware limited liability company.

Complainant alleges that Respondents violated 46 U.S.C. 41102(b), 41105(6), 41106 and 15 U.S.C. 13 with regard to anticompetitive and trade restrictive practices. The full text of the complaint can be found in the Commission's Electronic Reading Room at https://www2.fmc.gov/readingroom/proceeding/22-12/.

This proceeding has been assigned to Office of Administrative Law Judges. The initial decision of the presiding office in this proceeding shall be issued by April 12, 2023, and the final decision of the Commission shall be issued by October 26, 2023.

Served: April 12, 2022.
William Cody,
Secretary.

[FR Doc. 2022-08188 Filed 4-15-22; 8:45 am]

BILLING CODE 6730-02-P